DEPARTMENT OF THE TREASURY

Office of Foreign Assets Control

Sanctions Actions Pursuant to Executive Orders 13660, 13661 and 13662

AGENCY: Office of Foreign Assets Control, Treasury.

ACTION: Notice.

SUMMARY: The Department of the Treasury's Office of Foreign Assets Control (OFAC) is providing additional notice of the following actions, which were taken between March 20, 2014 and October 6, 2014 to address the national emergency declared by the President with respect to situation in Ukraine: (1) Blocking of property and interests in property of certain persons pursuant to Executive Orders (E.O.s) 13660 or 13661 (the names of these persons have been added to OFAC's Specially Designated Nationals and Blocked Persons List (SDN List)); (2) sectoral determinations by the Secretary of the Treasury pursuant to E.O. 13662; (3) Original Directive 1 (July 16, 2014) under E.O. 13662 and determinations that certain persons are subject to Original Directive 1 (the names of these persons have been added to the Sectoral Sanctions Identifications List (SSI List)) (this directive has been superseded as noted below and is being provided for historical reference purposes only); (4) Original Directive 2 (July 16, 2014) under E.O. 13662 and a determination that certain persons are subject to Original Directive 2 (the names of these persons have been added to the SSI List) (this directive has been superseded as noted below and is being provided for historical reference purposes only); (5) Directive 1 (as amended) (September 12, 2014) under E.O. 13662 and a determination that certain persons are subject to Directive 1 (as amended) (the names of these persons have been added to the SSI List); (6) Directive 2 (as amended) (September 12, 2014) under E.O. 13662 and a determination that certain persons are subject to Directive 2 (as amended) (the names of these persons have been added to the SSI List); (7) Directive 3 (September 12, 2014) under E.O. 13662 and a determination that certain persons are subject to Directive 3 (the names of these persons have been added to the SSI List); (8) Directive 4 (September 12, 2014) under E.O. 13662 and a determination that certain persons are subject to Directive 4 (the names of these persons have been added to the SSI List); (9) General License 1 (July 16, 2014) (this general license has been superseded as noted below and is being provided for historical reference purposes only); (10) General License 1A (September 12, 2014); (11) General License 2 (September 12, 2014) (this general license was time limited, has expired as noted below, and is being provided for historical reference purposes only); and (12) General License 3 (October 6, 2014).

DATES: The blockings of the property and interests in property of the individuals and entities identified in this notice were effective on July 16, 2014, July 29, 2014, and September 12, 2014 as specified below. Original Directives 1 and 2 were effective on July 16, 2014 until they were superseded by amended Directives 1 and 2 on September 12, 2014. The determinations that the persons identified in this notice were subject to Original Directive 1 or 2 were effective on July 16, 2014 and July 29, 2014, as specified below. Amended Directives 1 and 2, Directives 3 and 4, and the determinations that the persons identified in this notice are subject to such directives were effective on September 12, 2014. General License 1 was effective on July 16, 2014 until it was superseded by General License 1A on September 12, 2014. General Licenses 1A was effective on September 12, 2014. General License 2 was effective on September 12, 2014, but was time limited and expired on September 26, 2014. General License 3 was effective on October 6, 2014.

FOR FURTHER INFORMATION CONTACT: Associate Director for Global Targeting, tel.: 202/622-2420, Assistant Director for Licensing, tel.: 202/622-2480, Assistant Director for Policy, tel.: 202/622-6746, Assistant Director for Regulatory Affairs, tel.: 202/622-4855, Assistant Director for Sanctions Compliance & Evaluation, tel.: 202/622-2490, Office of Foreign Assets Control, or Chief Counsel (Foreign Assets Control), tel.: 202/622-2410, Office of the General Counsel, Department of the Treasury (not toll free numbers).

SUPPLEMENTARY INFORMATION:

Electronic and Facsimile Availability

The SDN List and additional information concerning OFAC sanctions programs are available from OFAC's Web site (www.treasury.gov/ofac). A complete listing of persons determined to be subject to one or more directives under E.O. 13662, as discussed in detail in this Notice, can be found in the SSI List at http://www.treasury.gov/resource-center/sanctions/SDN-List/Pages/ssi_list.aspx. Certain general information pertaining to OFAC's sanctions programs is available via facsimile through a 24-hour fax-on-demand service, tel.: 202/622-0077.

Background

On March 6, 2014, the President issued E.O. 13660 pursuant to, inter alia, the International Emergency Economic Powers Act, 50 U.S.C. 1701-1706 (IEEPA). In E.O. 13660, the President declared a national emergency to address the threat to the national security and foreign policy of the United States constituted by the actions and policies of persons, including persons who have asserted governmental authority in the Crimean region without authorization of the Government of Ukraine, that undermine democratic processes and institution in Ukraine, that threaten Ukraine's peace, security, stability, sovereignty, and territorial integrity, and that contribute to the misappropriation of Ukraine's assets. E.O. 13660 blocks, with certain exceptions, all property and interests in property that are in or that come within the United States or the possession or control of United States persons of persons determined by the Secretary of the Treasury, in consultation with the Secretary of State, to meet certain criteria set forth in E.O. 13660.

On March 16, 2014, the President issued E.O. 13661 pursuant to, inter alia, IEEPA, to expand the national emergency declared in E.O. 13660 in order to address the actions and polices of the Government of the Russian Federation with respect to Ukraine, including the deployment of Russian Federation military forces in the Crimea region of Ukraine. E.O. 13661 blocks, with certain exceptions, all property and interests in property that are in or that come within the United States or the possession or control of United States persons of persons listed on the Annex to E.O.13661 or that are determined by the Secretary of the Treasury, in consultation with the Secretary of State, to meet certain criteria set forth in E.O. 13661.

On March 20, 2014, the President issued E.O. 13662, pursuant to, inter alia, IEEPA, to further expand the national emergency declared in E.O. 13660 in order to address the continued actions and policies of the Government of the Russian Federation, including its purported annexation of Crimea and its use of force in Ukraine. E.O. 13662 blocks, with certain exceptions, all property and interests in property that are in or that come within the United States or the possession or control of United States persons of persons determined by the Secretary of the Treasury, in consultation with the Secretary of State, to operate in such sectors of the Russian Federation economy as may be determined by the Secretary of the Treasury, in consultation with the Secretary of State, or to meet certain other criteria set forth in E.O. 13662.

Pursuant to E.O. 13660, E.O. 13661, and E.O. 13662, the following actions were taken between March 20, 2014, and October 6, 2014, by the Secretary of the Treasury or the Director of the Office of Foreign Assets Control, in consultation with the Department of State:

Blocking of Property and Interests in Property Pursuant to E.O. 13660 or E.O. 13661

On July 16, 2014, the Director of OFAC, in consultation with the Department of State, determined that the following individual and three entities meet one or more of the criteria set forth in E.O. 13660 and the property and interests in property of these persons therefore are blocked pursuant to E.O. 13660:

Individual

BORODAI, Aleksandr (a.k.a. BORODAI, Alexander); DOB 25 Jul 1972; nationality Russia [UKRAINE]

Entities

1. LUHANSK PEOPLE'S REPUBLIC (a.k.a. LUGANSK PEOPLE'S REPUBLIC; a.k.a. PEOPLE'S REPUBLIC OF LUHANSK), Luhansk Region, Ukraine [UKRAINE]

2. DONETSK PEOPLE'S REPUBLIC, Donetsk Region, Ukraine [UKRAINE]

3. FEODOSIYA ENTERPRISE (a.k.a. FEODOSIA OIL PRODUCTS SUPPLY CO.; a.k.a. FEODOSIYA ENTERPRISE ON PROVIDING OIL PRODUCTS; a.k.a. FEODOSIYSKE COMPANY FOR THE OIL; a.k.a. THEODOSIYA OIL TERMINAL), Feodosiya, Geologicheskaya str. 2, Crimea 98107, Ukraine; Feodosia, Str. Geological 2, Crimea 98107, Ukraine [UKRAINE]

On July 16, 2014, the Director of OFAC, in consultation with the Department of State, determined that the following four individuals and eight entities meet one or more of the criteria set forth in E.O. 13661 and the property and interests in property of these persons therefore are blocked pursuant to E.O. 13661:

Individuals

1. BESEDA, Sergey (a.k.a. BESEDA, Sergei; a.k.a. BESEDA, Sergei Orestovoch); DOB 1954; Commander of the Fifth Service of the FSB; Commander of the Service for Operational Information and International Communications of the FSB; FSB Colonel General; Colonel-General [UKRAINE-EO13661]

2. NEVEROV, Sergei Ivanovich (a.k.a. NEVEROV, Sergei; a.k.a. NEVEROV, Sergey); DOB 21 Dec 1961; POB Tashtagol, Russia; Deputy Chairman of the State Duma of the Russian Federation; Member of the State Duma Committee on Housing Policy and Housing and Communal Services [UKRAINE-EO13661]

3. SAVELYEV, Oleg Genrikhovich; DOB 27 Oct 1965; POB St. Petersburg, Russia; Minister for Crimean Affairs [UKRAINE-EO13661]

4. SHCHEGOLEV, Igor (a.k.a. SHCHYOGOLEV, Igor Olegovich); DOB 10 Nov 1965; POB Vinnitsa, Ukraine; alt. POB Vinnytsia, Ukraine; Aide to the President of the Russian Federation [UKRAINE-EO13661]

Entities

1. FEDERAL STATE UNITARY ENTERPRISE STATE RESEARCH AND PRODUCTION ENTERPRISE BAZALT (a.k.a. FEDERAL STATE UNITARY ENTERPRISE, STATE RESEARCH AND PRODUCTION ENTERPRISE BAZALT; a.k.a. FSUE SRPE BAZALT; a.k.a. STATE RESEARCH AND PRODUCTION ENTERPRISE BAZALT), 32 Velyaminovskaya, Moscow 105318, Russia; Web site www.bazalt.ru; Email Address moscow@bazalt.ru [UKRAINE-EO13661]

2. JOINT STOCK COMPANY CONCERN RADIO-ELECTRONIC TECHNOLOGIES (a.k.a. CONCERN RADIO-ELECTRONIC TECHNOLOGIES; a.k.a. “KRET”), 20/1 Korp. 1 ul. Goncharnaya, Moscow 109240, Russia; Web site http://www.kret.com; Registration ID 1097746084666 [UKRAINE-EO13661]

3. JOINT STOCK COMPANY CONCERN SOZVEZDIE (a.k.a. JSC CONCERN SOZVEZDIE), 14 Plekhanovskaya Street, Voronezh, Russia; 14 ul. Plekhanovskaya, Voronezh, Voronezhskaya obl. 394018, Russia; Registration ID 1053600445337 [UKRAINE-EO13661]

4. JOINT STOCK COMPANY MILITARY-INDUSTRIAL CORPORATION NPO MASHINOSTROYENIA (a.k.a. JOINT STOCK COMPANY MILITARY INDUSTRIAL CONSORTIUM NPO MASHINOSTROYENIA; a.k.a. JSC MIC NPO MASHINOSTROYENIA; a.k.a. MIC NPO MASHINOSTROYENIA JSC; a.k.a. MIC NPO MASHINOSTROYENIYA JSC; a.k.a. MILITARY INDUSTRIAL CORPORATION NPO MASHINOSTROENIA OAO; a.k.a. OPEN JOINT STOCK COMPANY MILITARY INDUSTRIAL CORPORATION SCIENTIFIC AND PRODUCTION MACHINE BUILDING ASSOCIATION; a.k.a. VOENNO-PROMYSHLENNAYA KORPORATSIYA NAUCHNO-PROIZVODSTVENNOE OBEDINENIE MASHINOSTROENIYA OAO; a.k.a. VPK NPO MASHINOSTROENIYA), 33, Gagarina St., Reutov-town, Moscow Region 143966, Russia; 33 Gagarin Street, Reutov, Moscow Region 143966, Russia; 33 Gagarina ul., Reutov, Moskovskaya obl 143966, Russia; Web site www.npomash.ru; Email Address export@npomash.ru; alt. Email Address vpk@npomash.ru; Registration ID 1075012001492 (Russia); Tax ID No. 5012039795 (Russia); Government Gazette Number 07501739 (Russia) [UKRAINE-EO13661]

5. JOINT-STOCK COMPANY CONCERN ALMAZ-ANTEY (a.k.a. ALMAZ-ANTEY CORP; a.k.a. ALMAZ-ANTEY DEFENSE CORPORATION; a.k.a. ALMAZ-ANTEY JSC; f.k.a. OTKRYTOE AKTSIONERNOE OBSHCHESTVO KONTSERN PVO ALMAZ ANTEI), 41 ul.Vereiskaya, Moscow 121471, Russia; Web site almaz-antey.ru; Email Address antey@almaz-antey.ru [UKRAINE-EO13661]

6. KALASHNIKOV CONCERN (a.k.a. CONCERN KALASHNIKOV; a.k.a. IZHEVSKIY MASHINOSTROITEL'NYI ZAVOD OAO; f.k.a. IZHMASH R&D CENTER; f.k.a. JSC NPO IZHMASH; f.k.a. NPO IZHMASH OAO; a.k.a. OJSC CONCERN KALASHNIKOV; f.k.a. OJSC IZHMASH; f.k.a. SCIENTIFIC PRODUCTION ASSOCIATION IZHMASH JOINT STOCK COMPANY), 3, Derjabin Pr., Izhevsk, Udmurt Republic 426006, Russia; Registration ID 1111832003018 [UKRAINE-EO13661]

7. KONSTRUKTORSKOE BYURO PRIBOROSTROENIYA OTKRYTOE AKTSIONERNOE OBSHCHESTVO (a.k.a. INSTRUMENT DESIGN BUREAU; a.k.a. JSC KBP INSTRUMENT DESIGN BUREAU; a.k.a. KBP INSTRUMENT DESIGN BUREAU; a.k.a. KBP INSTRUMENT DESIGN BUREAU JOINT STOCK COMPANY; a.k.a. “KBP OAO”), 59 Shcheglovskaya Zaseka ul., Tula 300001, Russia; Web site www.kbptula.ru; Email Address kbkedr@tula.net; Registration ID 1117154036911 (Russia); Government Gazette Number 07515747 (Russia) [UKRAINE-EO13661]

8. URALVAGONZAVOD (a.k.a. NAUCHNO-PROIZVODSTVENNAYA KORPORATSIYA URALVAGONZAVOD OAO; a.k.a. NPK URALVAGONZAVOD; a.k.a. NPK URALVAGONZAVOD OAO; a.k.a. OJSC RESEARCH AND PRODUCTION CORPORATION URALVAGONZAVOD; a.k.a. RESEARCH AND PRODUCTION CORPORATION URALVAGONZAVOD; a.k.a. RESEARCH AND PRODUCTION CORPORATION URALVAGONZAVOD OAO; a.k.a. URALVAGONZAVOD CORPORATION; a.k.a. “UVZ”), 28, Vostochnoye shosse, Nizhni Tagil, Sverdlovsk region 622007, Russia; 28 Vostochnoe shosse, Nizhni Tagil, Sverdlovskaya oblast 622007, Russia; 40, Bolshaya Yakimanka Street, Moscow 119049, Russia; Vistochnoye Shosse, 28, Nizhny Tagil 622007, Russia; Web site http://www.uvz.ru/; alt. Web site http://uralvagonzavod.com/; Email Address web@uvz.ru [UKRAINE-EO13661]

On July 29, 2014, the Director of OFAC, in consultation with the Department of State, determined that the following entity meets one or more of the criteria set forth in E.O. 13661 and the property and interests in property of this entity therefore are blocked pursuant to E.O. 13661:

Entity

UNITED SHIPBUILDING CORPORATION (a.k.a. OBEDINENNAYA SUDOSTROITELNAYA KORPORATSIYA OAO; a.k.a. OJSC UNITED SHIPBUILDING CORPORATION; a.k.a. UNITED SHIPBUILDING CORPORATION JOINT STOCK COMPANY; a.k.a. “OSK OAO”), 90, Marata ul., St. Petersburg 191119, Russia; 11, Sadovaya-Kudrinskaya str., Moscow 123242, Russia; Web site http://www.oaoosk.ru/; Email Address info@oaoosk.ru [UKRAINE-EO13661]

On September 12, 2014, the Director of OFAC, in consultation with the Department of State, determined that the following five entities meet one or more of the criteria set forth in E.O. 13661 and the property and interests in property of these entities therefore are blocked pursuant to E.O. 13661:

Entities

1. OAO `DOLGOPRUDNY RESEARCH PRODUCTION ENTERPRISE' (a.k.a. DOLGOPRUDNENSKOYE NPP OAO; a.k.a. DOLGOPRUDNY; a.k.a. DOLGOPRUDNY RESEARCH PRODUCTION ENTERPRISE; a.k.a. OTKRYTOE AKTSIONERNOE OBSHCHESTVO DOIGOPRUDNENSKOE NAUCHNO PROIZVODSTVENNOE PREDPRIYATIE), 1 Pl. Sobina, Dolgoprudny, Moskovskaya obl. 141700, Russia; Proshchad Sobina 1, Dolgoprudny 141700, Russia; Email Address dnpp@orc.ru; Registration ID 1025001202544; Tax ID No. 5008000322; Government Gazette Number 07504318 [UKRAINE-EO13661]

2. KALININ MACHINE PLANT JSC (a.k.a. KALININ MACHINE-BUILDING PLANT OPEN JOINT-STOCK COMPANY; a.k.a. KALININ MACHINERY PLANT-BRD; a.k.a. MASHINOSTROITEL'NYI ZAVOD IM. M.I. KALININA, G. YEKATERINBURG OAO; a.k.a. MZIK OAO; a.k.a. OPEN-END JOINT-STOCK COMPANY `KALININ MACHINERY PLANT. YEKATERINBURG'; a.k.a. OTKRYTOE AKTSIONERNOE OBSHCHESTVO MASHINOSTROITELNY ZAVOD IM.M.I.KALININA, G.EKATERINBURG), 18 prospekt Kosmonavtov, Ekaterinburg, Sverdlovskaya obl. 620017, Russia; Email Address info@zik.ru [UKRAINE-EO13661]

3. MYTISHCHINSKI MASHINOSTROITELNY ZAVOD, OAO (a.k.a. JSC MYTISHCHINSKI MACHINE-BUILDING PLANT; a.k.a. OTKRYTOE AKTSIONERNOE OBSHCHESTVO `MYTISHCHINSKI MASHINOSTROITELNY ZAVOD'), 4 ul. Kolontsova Mytishchi, Mytishchinski Raion, Moskovskayaobl 141009, Russia; UL. Koloncova, d.4, Mytishi, Moscow region 141009, Russia; Web site www.mmzavod.ru; Email Address mmzavod@mail.ru; Registration ID 1095029003860 (Russia); Government Gazette Number 61540868 (Russia) [UKRAINE-EO13661]

4. JSC V. TIKHOMIROV SCIENTIFIC RESEARCH INSTITUTE OF INSTRUMENT DESIGN (a.k.a. JSC NIIP; f.k.a. OTKRYTOE AKTSIONERNOE OBSHCHESTVO NAUCHNO ISSLEDOVATELSKI INSTITUT PRIBOROSTROENIYA IMENI V.V. TIKHOMIROVA), 3 Ul. Gagarina, Zhukovski, Moskovskaya Obl 140180, Russia; Gagarin Str, 3, Zhukovsky 140180, Russia; Web site http://www.niip.ru; Email Address niip@niip.ru; Registration ID 1025001627859; Government Gazette Number 13185231 (Russia) [UKRAINE-EO13661]

5. JOINT STOCK COMPANY ALMAZ-ANTEY AIR DEFENSE CONCERN MAIN SYSTEM DESIGN BUREAU NAMED BY ACADEMICIAN A.A. RASPLETIN (a.k.a. A.A. RASPLETIN MAIN SYSTEM DESIGN BUREAU; a.k.a. ALMAZ-ANTEY GSKB; a.k.a. ALMAZ-ANTEY GSKB IMENI ACADEMICIAN A.A. RASPLETIN; a.k.a. ALMAZ-ANTEY MSDB; a.k.a. ALMAZ-ANTEY PVO `AIR DEFENSE' CONCERN LEAD SYSTEMS DESIGN BUREAU OAO `OPEN JOINT-STOCK COMPANY' IMENI ACADEMICIAN A.A. RASPLETIN; a.k.a. GOLOVNOYE SISTEMNOYE KONSTRUKTORSKOYE BYURO OPEN JOINT-STOCK COMPANY OF ALMAZ-ANTEY PVO CONCERN IMENI ACADEMICIAN A.A. RASPLETIN; a.k.a. JSC `ALMAZ-ANTEY' MSDB; f.k.a. OTKRYTOE AKTSIONERNOE OBSHCHESTVO NAUCHNO PROIZVODSTVENNOE OBEDINENIE ALMAZ IMENI AKADEMIKA A.A. RASPLETINA; a.k.a. “GSKB”), 16-80, Leningradsky Prospect, Moscow 125190, Russia; Web site http://www.raspletin.ru/; Email Address info@raspletin.ru; alt. Email Address almaz_zakupki@mail.ru [UKRAINE-EO13661]

Sectoral Determinations by the Secretary of the Treasury Pursuant to E.O. 13662

July 16, 2014 Determination pursuant to Section 1(a)(i) of E.O. 13662: On July 16, 2014, the Secretary of the Treasury made the following determination:

Section 1(a) of Executive Order 13662 of March 20, 2014 (“Blocking Property of Additional Persons Contributing to the Situation in Ukraine”) (E.O. 13662) imposes economic sanctions on any person determined by the Secretary of the Treasury, in consultation with the Secretary of State, to operate in such sectors of the Russian Federation economy as may be determined, pursuant to section 1(a)(i) of the order, by the Secretary of the Treasury, in consultation with the Secretary of State.

To further address the extraordinary threat to the national security and foreign policy of the United States described in E.O. 13662, and in consultation with the Secretary of State, I hereby determine that section 1(a)(i) shall apply to the financial services and energy sectors of the Russian Federation economy. Any person I or my designee subsequently determine, in consultation with the Secretary of State, operates in such sectors shall be subject to sanctions pursuant to section 1(a)(i).

September 12, 2014 Determination pursuant to Section 1(a)(i) of E.O. 13662: On September 12, 2014, the Secretary of the Treasury made the following determination:

Section 1(a) of Executive Order 13662 of March 20, 2014 (“Blocking Property of Additional Persons Contributing to the Situation in Ukraine”) (E.O. 13662) imposes economic sanctions on any person determined by the Secretary of the Treasury, in consultation with the Secretary of State, to operate in such sectors of the Russian Federation economy as may be determined, pursuant to section 1(a)(i) of the order, by the Secretary of the Treasury, in consultation with the Secretary of State.

To further address the extraordinary threat to the national security and foreign policy of the United States described in E.O. 13662, and in consultation with the Secretary of State, I hereby determine that section 1(a)(i) shall apply to the defense and related materiel sector of the Russian Federation economy. Any person I or my designee subsequently determine, in consultation with the Secretary of State, operates in this sector shall be subject to sanctions pursuant to section 1(a)(i).

Original Directive 1 (July 16, 2014) Under E.O. 13662 and the Names of Persons Determined To Be Subject to Original Directive 1

Note to Original Directive 1: On September 12, 2014, Original Directive 1 under E.O. 13662 was superseded by an amended version of Directive 1, which is included later in this Federal Register Notice. The text of, and actions taken pursuant to, Original Directive 1 are included here for historical reference purposes only.

Original Directive 1 (July 16, 2014): On July 16, 2014, the Director of OFAC, in consultation with the Department of State, made the following determination:

Pursuant to sections 1(a)(i), 1(b), and 8 of Executive Order 13662 of March 20, 2014, and 31 CFR part 589 and following the Secretary of the Treasury's determination under Section 1(a)(i) of Executive Order 13662 with respect to the financial services sector of the Russian Federation economy, I hereby determine that the persons on the attached list operate in the Russian financial services sector. The following transactions by U.S. persons or within the United States are hereby prohibited: transacting in, providing financing for, or otherwise dealing in new debt of longer than 90 days maturity or new equity for these persons, their property, or their interests in property. All other transactions with these persons or involving any property in which one or more of these persons has an interest are permitted, provided such transactions do not otherwise involve property or interests in property of a person blocked pursuant to Executive Orders 13660, 13661, or 13662, or any other sanctions programs implemented by the Office of Foreign Assets Control.

Entities determined on July 16, 2014 to be subject to Original Directive 1: On July 16, 2014, the Director of OFAC, in consultation with the Department of State, determined that the following persons operate in the financial services sector of the Russian Federation economy and that they shall be subject to the prohibitions of Original Directive 1:

1. GAZPROMBANK OAO (a.k.a. GAZPROMBANK GAS INDUSTRY OJSC; a.k.a. GAZPROMBANK OJSC; a.k.a. GAZPROMBANK OPEN JOINT STOCK COMPANY; a.k.a. GAZPROMBANK OTKRYTOE AKTSIONERNOE OBSHCHESTVO; a.k.a. GPB, OAO; a.k.a. GPB, OJSC), 16, Building 1, Nametkina St., Moscow 117420, Russia; 63, Novocheremushkinskaya St., Moscow 117418, Russia; SWIFT/BIC GAZPRUMM; Web site www.gazprombank.ru; Email Address mailbox@gazprombank.ru; Registration ID 1027700167110; Tax ID No. 7744001497; Government Gazette Number 09807684 [UKRAINE-EO13662]

2. VNESHECONOMBANK (a.k.a. BANK FOR DEVELOPMENT AND FOREIGN ECONOMIC AFFAIRS (VNESHECONOMBANK) STATE CORPORATION; a.k.a. BANK RAZVITIYA I VNESHNEEKONOMICHESKOI DEYATELNOSTI (VNESHEKONOMBANK) GOSUDARSTVENNAYA KORPORATSIYA; a.k.a. “VEB”), 9 Akademika Sakharova prospekt, Moscow 107996, Russia; SWIFT/BIC BFEA RU MM; Web site http://www.veb.ru; Email Address info@veb.ru; BIK (RU) 044525060; [UKRAINE-EO13662]

Entities determined on July 29, 2014 to be subject to Original Directive 1: On July 29, 2014, the Director of OFAC, in consultation with the Department of State, determined that the following persons operate in the financial services sector of the Russian Federation economy and that they shall be subject to the prohibitions of Original Directive 1:

1. BANK OF MOSCOW (f.k.a. AKTSIONERNY KOMMERCHESKI BANK BANK MOSKVY, OTKRYTOE AKTSIONERNOE OBSCHCHESTVO; a.k.a. JOINT STOCK COMMERCIAL BANK—BANK OF MOSCOW, OPEN JOINT STOCK COMPANY), 8/15 Korp. 3 ul. Rozhdestvenka, Moscow 107996, Russia; Bld 3 8/15, Rozhdestvenka St., Moscow 107996, Russia; SWIFT/BIC MOSW RU MM; Web site www.bm.ru; Email Address holmogorov_ss@mmbank.ru; alt. Email Address info@mmbank.ru; BIK (RU) 044525219; Registration ID 1027700159497; Government Gazette Number 29292940 [UKRAINE-EO13662]

2. RUSSIAN AGRICULTURAL BANK (f.k.a. OTKRYTOE AKTSIONERNOE ROSSISKI SELSKOKHOZYAISTVENNY BANK; a.k.a. ROSSELKHOZBANK; a.k.a. ROSSIYSKI SELSKOKHOZYAISTVENNY BANK OAO; a.k.a. RUSSIAN AGRICULTURAL BANK OAO), 3, Gagarinsky Pereulok, Moscow 119034, Russia; 3 Gagarinsky per., Moscow 119034, Russia; SWIFT/BIC RUAG RU MM; Web site http://www.rshb.ru; Email Address office@rshb.ru; Registration ID 1027700342890; Government Gazette Number 52750822 [UKRAINE-EO13662]

3. VTB BANK OAO (f.k.a. BANK VNESHNEY TORGOVLI ROSSIYSKOY FEDERATSII, CLOSED JOINT-STOCK COMPANY; f.k.a. BANK VNESHNEY TORGOVLI RSFSR; f.k.a. BANK VNESHNEY TORGOVLI, JOINT-STOCK COMPANY; f.k.a. BANK VNESHNEY TORGOVLI, OPEN JOINT-STOCK COMPANY; a.k.a. BANK VTB OAO; a.k.a. BANK VTB, OPEN JOINT-STOCK COMPANY; a.k.a. JSC VTB BANK; f.k.a. VNESHTORGBANK; f.k.a. VNESHTORGBANK ROSSII, CLOSED JOINT-STOCK COMPANY; a.k.a. VTB BANK, OPEN JOINT-STOCK COMPANY), 29, Bolshaya Morskaya str., St. Petersburg 190000, Russia; 37 Plyushchikha ul., Moscow 119121, Russia; 43, Vorontsovskaya str., Moscow 109044, Russia; SWIFT/BIC VTBRRUMM; Web site www.vtb.com; Registration ID 1027739609391 (Russia); Tax ID No. 7702070139 (Russia); Government Gazette Number 00032520 (Russia); License 1000 (Russia) [UKRAINE-EO13662]

Original Directive 2 (July 16, 2014) Under E.O. 13662 and the Names of Persons Determined To Be Subject to Original Directive 2

Note to Original Directive 2: On September 12, 2014, Original Directive 2 under E.O. 13662 was superseded by an amended version of Directive 2, which is included later in this Federal Register Notice. The text of, and actions taken pursuant to, Original Directive 2 are included here for historical reference purposes only.

Original Directive 2 (July 16, 2014): On July 16, 2014, the Director of OFAC, in consultation with the Department of State, made the following determination:

Pursuant to sections 1(a)(i), 1(b), and 8 of Executive Order 13662 of March 20, 2014, and 31 CFR part 589 and following the Secretary of the Treasury's determination under Section 1(a)(i) of Executive Order 13662 with respect to the energy sector of the Russian Federation economy, I hereby determine that the persons on the attached list operate in the Russian energy sector. The following transactions by U.S. persons or within the United States are hereby prohibited: transacting in, providing financing for, or otherwise dealing in new debt of longer than 90 days maturity for these persons, their property, or their interests in property. All other transactions with these persons or involving any property in which one or more of these persons has an interest are permitted, provided such transactions do not otherwise involve property or interests in property of a person blocked pursuant to Executive Orders 13660, 13661, or 13662, or any other sanctions programs implemented by the Office of Foreign Assets Control.

Entities determined on July 16, 2014 to be subject to Original Directive 2: On July 16, 2014, the Director of OFAC, in consultation with the Department of State, determined that the following persons operate in the energy sector of the Russian Federation economy and that they shall be subject to the prohibitions of Original Directive 2:

1. OAO NOVATEK (a.k.a. FINANSOVO-INVESTITSIONNAYA KOMPANIYA NOVAFININVEST OAO; a.k.a. NOVATEK), 2, Udaltsova Street, Moscow 119415, Russia; 22 A, Pobedy Street, Tarko-Sale, Yamalo-Nenets Autonomous District 629580, Russia; 22a Pobedy ul., Tarko-Sale, Purovski raion, Tyumenskaya Oblast 629850, Russia; Email Address novatek@novatek.ru; Registration ID 1026303117642 (Russia); Government Gazette Number 33556474 (Russia) [UKRAINE-EO13662]

2. OPEN JOINT-STOCK COMPANY ROSNEFT OIL COMPANY (a.k.a. OAO ROSNEFT OIL COMPANY; a.k.a. OIL COMPANY ROSNEFT; a.k.a. OJSC ROSNEFT OIL COMPANY; a.k.a. ROSNEFT; a.k.a. ROSNEFT OIL COMPANY), 26/1 Sofiyskaya Embankment, Moscow 115035, Russia; Web site www.rosneft.com; alt. Web site www.rosneft.ru; Email Address postman@rosneft.ru; Registration ID 1027700043502 (Russia); Tax ID No. 7706107510 (Russia); Government Gazette Number 00044428 (Russia) [UKRAINE-EO13662]

Directive 1 (as Amended) (September 12, 2014) Under E.O. 13662 and the Names of Persons Determined To Be Subject to Directive 1 (as Amended)

Note to Directive 1 (as amended): Original Directive 1, which was issued on July 16, 2014, and which is superseded by this version, prohibited these same activities but involving debt of longer than 90 days maturity or equity if that debt or equity was issued on or after the date a person was determined to be subject to Original Directive 1. This amended version of Directive 1 also reflects technical and other non-substantive changes.

Directive 1 (as amended) (September 12, 2014): Pursuant to sections 1(a)(i), 1(b), and 8 of Executive Order 13662 of March 20, 2014 “Blocking Property of Additional Persons Contributing to the Situation in Ukraine” (the Order) and 31 CFR 589.802, and following the Secretary of the Treasury's determination under section 1(a)(i) of the Order with respect to the financial services sector of the Russian Federation economy, the Director of the Office of Foreign Assets Control has determined, in consultation with the Department of State, that the following activities by a U.S. person or within the United States are prohibited, except to the extent provided by law or unless licensed or otherwise authorized by the Office of Foreign Assets Control: (1) All transactions in, provision of financing for, and other dealings in new debt of longer than 30 days maturity or new equity of persons determined to be subject to this Directive, their property, or their interests in property; and (2) all activities related to debt or equity issued before the date of this Directive 1 (as amended) that would have been prohibited by the prior version of this Directive 1. All other activities with these persons or involving their property or interests in property are permitted, provided such activities are not otherwise prohibited pursuant to Executive Orders 13660, 13661, or 13662 or any other sanctions program implemented by the Office of Foreign Assets Control.

Except to the extent otherwise provided by law or unless licensed or otherwise authorized by the Office of Foreign Assets Control, the following are also prohibited: (1) Any transaction that evades or avoids, has the purpose of evading or avoiding, causes a violation of, or attempts to violate any of the prohibitions contained in this Directive; and (2) any conspiracy formed to violate any of the prohibitions in this Directive.

Entities determined on September 12, 2014 to be subject to Directive 1 (as amended):On September 12, 2014, the Director of OFAC, in consultation with the Department of State, determined that the following persons, who had previously been determined to operate in the financial services sector of the Russian Federation economy, shall be subject to the prohibitions of Directive 1 (as amended):

1. RUSSIAN AGRICULTURAL BANK (f.k.a. OTKRYTOE AKTSIONERNOE ROSSISKI SELSKOKHOZYAISTVENNY BANK; a.k.a. ROSSELKHOZBANK; a.k.a. ROSSIYSKI SELSKOKHOZYAISTVENNY BANK OAO; a.k.a. RUSSIAN AGRICULTURAL BANK OAO), 3, Gagarinsky Pereulok, Moscow 119034, Russia; 3 Gagarinsky per., Moscow 119034, Russia; SWIFT/BIC RUAG RU MM; Web site http://www.rshb.ru; Email Address office@rshb.ru; Registration ID 1027700342890; Government Gazette Number 52750822 [UKRAINE-EO13662]

2. VTB BANK OAO (f.k.a. BANK VNESHNEY TORGOVLI ROSSIYSKOY FEDERATSII, CLOSED JOINT-STOCK COMPANY; f.k.a. BANK VNESHNEY TORGOVLI RSFSR; f.k.a. BANK VNESHNEY TORGOVLI, JOINT-STOCK COMPANY; f.k.a. BANK VNESHNEY TORGOVLI, OPEN JOINT-STOCK COMPANY; a.k.a. BANK VTB OAO; a.k.a. BANK VTB, OPEN JOINT-STOCK COMPANY; a.k.a. JSC VTB BANK; f.k.a. VNESHTORGBANK; f.k.a. VNESHTORGBANK ROSSII, CLOSED JOINT-STOCK COMPANY; a.k.a. VTB BANK, OPEN JOINT-STOCK COMPANY), 29, Bolshaya Morskaya str., St. Petersburg 190000, Russia; 37 Plyushchikha ul., Moscow 119121, Russia; 43, Vorontsovskaya str., Moscow 109044, Russia; SWIFT/BIC VTBRRUMM; Web site www.vtb.com; Registration ID 1027739609391 (Russia); Tax ID No. 7702070139 (Russia); Government Gazette Number 00032520 (Russia); License 1000 (Russia) [UKRAINE-EO13662]

3. GAZPROMBANK OAO (a.k.a. GAZPROMBANK GAS INDUSTRY OJSC; a.k.a. GAZPROMBANK OJSC; a.k.a. GAZPROMBANK OPEN JOINT STOCK COMPANY; a.k.a. GAZPROMBANK OTKRYTOE AKTSIONERNOE OBSHCHESTVO; a.k.a. GPB, OAO; a.k.a. GPB, OJSC), 16, Building 1, Nametkina St., Moscow 117420, Russia; 63, Novocheremushkinskaya St., Moscow 117418, Russia; SWIFT/BIC GAZPRUMM; Web site www.gazprombank.ru; Email Address mailbox@gazprombank.ru; Registration ID 1027700167110; Tax ID No. 7744001497; Government Gazette Number 09807684 [UKRAINE-EO13662]

4. VNESHECONOMBANK (a.k.a. BANK FOR DEVELOPMENT AND FOREIGN ECONOMIC AFFAIRS (VNESHECONOMBANK) STATE CORPORATION; a.k.a. BANK RAZVITIYA I VNESHNEEKONOMICHESKOI DEYATELNOSTI (VNESHEKONOMBANK) GOSUDARSTVENNAYA KORPORATSIYA; a.k.a. “VEB”), 9 Akademika Sakharova prospekt, Moscow 107996, Russia; SWIFT/BIC BFEA RU MM; Web site http://www.veb.ru; Email Address info@veb.ru; BIK (RU) 044525060 [UKRAINE-EO13662]

5. BANK OF MOSCOW (f.k.a. AKTSIONERNY KOMMERCHESKI BANK BANK MOSKVY, OTKRYTOE AKTSIONERNOE OBSCHCHESTVO; a.k.a. JOINT STOCK COMMERCIAL BANK—BANK OF MOSCOW, OPEN JOINT STOCK COMPANY), 8/15 Korp. 3 ul. Rozhdestvenka, Moscow 107996, Russia; Bld 3 8/15, Rozhdestvenka St., Moscow 107996, Russia; SWIFT/BIC MOSW RU MM; Web site www.bm.ru; Email Address holmogorov_ss@mmbank.ru; alt. Email Address info@mmbank.ru; BIK (RU) 044525219; Registration ID 1027700159497; Government Gazette Number 29292940 [UKRAINE-EO13662]

On September 12, 2014, the Director of OFAC, in consultation with the Department of State, determined that the following person (a) operates in the financial services sector of the Russian Federation economy and (b) shall be subject to the prohibitions of Directive 1 (as amended):

SBERBANK OF RUSSIA (f.k.a. OTKRYTOE AKTSIONERNOE OBSHCHESTVO SBERBANK ROSSII; a.k.a. SBERBANK ROSSII; f.k.a. SBERBANK ROSSII OAO), 19 ul. Vavilova, Moscow 117997, Russia; SWIFT/BIC SABRRUMM; Web site www.sberbank.ru; Email Address sbrf@sbrf.ru [UKRAINE-EO13662]

Directive 2 (as Amended) (September 12, 2014) Under E.O. 13662 and the Names of Persons Determined To Be Subject to Directive 2 (as Amended)

Note to Directive 2 (as amended): Original Directive 2, which was issued on July 16, 2014, and which is superseded by this version, prohibited these same activities for debt issued on or after July 16, 2014. This amended version of Directive 2 also reflects technical and other non-substantive edits.

Directive 2 (as amended) (September 12, 2014): Pursuant to sections 1(a)(i), 1(b), and 8 of Executive Order 13662 of March 20, 2014 “Blocking Property of Additional Persons Contributing to the Situation in Ukraine” (the Order) and 31 CFR 589.802, and following the Secretary of the Treasury's determination under section 1(a)(i) of the Order with respect to the energy sector of the Russian Federation economy, the Director of the Office of Foreign Assets Control has determined, in consultation with the Department of State, that the following activities by a U.S. person or within the United States are prohibited, except to the extent provided by law or unless licensed or otherwise authorized by the Office of Foreign Assets Control: (1) All transactions in, provision of financing for, and other dealings in new debt of longer than 90 days maturity of persons determined to be subject to this Directive, their property, or their interests in property; and (2) all activities related to debt issued before the date of this Directive 2 (as amended) that would have been prohibited by the prior version of this Directive 2. All other activities with these persons or involving their property or interests in property are permitted, provided such activities are not otherwise prohibited pursuant to Executive Orders 13660, 13661, or 13662 or any other sanctions program implemented by the Office of Foreign Assets Control.

Except to the extent otherwise provided by law or unless licensed or otherwise authorized by the Office of Foreign Assets Control, the following are also prohibited: (1) Any transaction that evades or avoids, has the purpose of evading or avoiding, causes a violation of, or attempts to violate any of the prohibitions contained in this Directive; and (2) any conspiracy formed to violate any of the prohibitions in this Directive.

Entities determined on September 12, 2014, to be subject to Directive 2 (as amended):On September 12, 2014, the Director of OFAC, in consultation with the Department of State, determined that the following persons, who had previously been determined to operate in the energy sector of the Russian Federation economy, shall be subject to the prohibitions of Directive 2 (as amended):

1. OPEN JOINT-STOCK COMPANY ROSNEFT OIL COMPANY (a.k.a. OAO ROSNEFT OIL COMPANY; a.k.a. OIL COMPANY ROSNEFT; a.k.a. OJSC ROSNEFT OIL COMPANY; a.k.a. ROSNEFT; a.k.a. ROSNEFT OIL COMPANY), 26/1 Sofiyskaya Embankment, Moscow 115035, Russia; Web site www.rosneft.com; alt. Web site www.rosneft.ru; Email Address postman@rosneft.ru; Registration ID 1027700043502 (Russia); Tax ID No. 7706107510 (Russia); Government Gazette Number 00044428 (Russia) [UKRAINE-EO13662]

2. OAO NOVATEK (a.k.a. FINANSOVO-INVESTITSIONNAYA KOMPANIYA NOVAFININVEST OAO; a.k.a. NOVATEK), 2, Udaltsova Street, Moscow 119415, Russia; 22 A, Pobedy Street, Tarko-Sale, Yamalo-Nenets Autonomous District 629580, Russia; 22a Pobedy ul., Tarko-Sale, Purovski raion, Tyumenskaya Oblast 629850, Russia; Email Address novatek@novatek.ru; Registration ID 1026303117642 (Russia); Government Gazette Number 33556474 (Russia) [UKRAINE-EO13662]

On September 12, 2014, the Director of OFAC, in consultation with the Department of State, determined that the following persons (a) operate in the energy sector of the Russian Federation economy and (b) shall be subject to the prohibitions of Directive 2 (as amended):

1. OJSC GAZPROM NEFT (a.k.a. GAZPROM NEFT OAO; a.k.a. JSC GAZPROM NEFT; a.k.a. OPEN JOINT-STOCK COMPANY GAZPROM NEFT; f.k.a. SIBIRSKAYA NEFTYANAYA KOMPANIYA OAO), Let. A. Galernaya, 5, ul, St. Petersburg 190000, Russia; Ul. Pochtamtskaya, 3-5, St. Petersburg 190000, Russia; 3-5 Pochtamtskaya St., St. Petersburg 190000, Russia; 125 A. Profsoyuznaya Street, Moscow 117647, Russia; Web site http://www.gazprom-neft.com/; Email Address info@gazprom-neft.ru; alt. Email Address pr@gazprom-neft.ru; alt. Email Address shareholders@gazprom-neft.ru; alt. Email Address ir@gazprom-neft.ru; Registration ID 1025501701686; Tax ID No. 5504036333; Government Gazette Number 42045241 [UKRAINE-EO13662]

2. AK TRANSNEFT OAO (a.k.a. AKTSIONERNAYA KOMPANIYA PO TRANSPORTUNEFTI TRANSNEFT OAO; a.k.a. OAO AK TRANSNEFT; a.k.a. OIL TRANSPORTING JOINT-STOCK COMPANY TRANSNEFT; a.k.a. TRANSNEFT; a.k.a. TRANSNEFT OJSC; a.k.a. TRANSNEFT, JSC), 57 B. Polyanka ul., Moscow 119180, Russia; 57 Bolshaya. Polyanka, Moscow 119180, Russia; Web site www.transneft.ru; Email Address transneft@ak.transneft.ru; Registration ID 1027700049486; Tax ID No. 7706061801; Government Gazette Number 00044463 [UKRAINE-EO13662]

Directive 3 (September 12, 2014) Under E.O. 13662 and the Names of Persons Determined To Be Subject to Directive 3

Directive 3 (September 12, 2014): Pursuant to sections 1(a)(i), 1(b), and 8 of Executive Order 13662 of March 20, 2014 “Blocking Property of Additional Persons Contributing to the Situation in Ukraine” (the Order) and 31 CFR 589.802, and following the Secretary of the Treasury's determination under section 1(a)(i) of the Order with respect to the defense and related materiel sector of the Russian Federation economy, the Director of the Office of Foreign Assets Control has determined, in consultation with the Department of State, that the following activities by a U.S. person or within the United States are prohibited, except to the extent provided by law or unless licensed or otherwise authorized by the Office of Foreign Assets Control: all transactions in, provision of financing for, and other dealings in new debt of longer than 30 days maturity of persons determined to be subject to this Directive, their property, or their interests in property. All other activities with these persons or involving their property or interests in property are permitted, provided such activities are not otherwise prohibited pursuant to Executive Orders 13660, 13661, or 13662 or any other sanctions program implemented by the Office of Foreign Assets Control.

Except to the extent otherwise provided by law or unless licensed or otherwise authorized by the Office of Foreign Assets Control, the following are also prohibited: (1) any transaction that evades or avoids, has the purpose of evading or avoiding, causes a violation of, or attempts to violate any of the prohibitions contained in this Directive; and (2) any conspiracy formed to violate any of the prohibitions in this Directive.

Entity determined on September 12, 2014, to be subject to Directive 3: On September 12, 2014, the Director of OFAC, in consultation with the Department of State, determined that the following person (a) operates in the defense and related materiel sector of the Russian Federation economy and (b) shall be subject to the prohibitions of new Directive 3:

ROSTEC (a.k.a. ROSTEC STATE CORPORATION; a.k.a. RUSSIAN TECHNOLOGIES; a.k.a. RUSSIAN TECHNOLOGIES STATE CORPORATION FOR ASSISTANCE TO DEVELOPMENT, PRODUCTION AND EXPORT OF ADVANCED TECHNOLOGY INDUSTRIAL PRODUCT; a.k.a. STATE CORPORATION FOR ASSISTANCE TO DEVELOPMENT, PRODUCTION AND EXPORT OF ADVANCED TECHNOLOGY INDUSTRIAL PRODUCT ROSTEKHNOLOGII; a.k.a. STATE CORPORATION ROSTECHNOLOGII; a.k.a. STATE CORPORATION ROSTEKHNOLOGII), 24 Usacheva ul., Moscow 119048, Russia; 21 Gogolevsky Blvd., Moscow 119991, Russia; Web site www.rostec.ru; Email Address info@rostec.ru; Registration ID 1077799030847 (Russia); Tax ID No. 7704274402 (Russia); Government Gazette Number 94137372 (Russia) [UKRAINE-EO13662].

Directive 4 (September 12, 2014) Under E.O. 13662 and the Names of Persons Determined To Be Subject to Directive 4

Directive 4 (September 12, 2014): Pursuant to sections 1(a)(i), 1(b), and 8 of Executive Order 13662 of March 20, 2014 “Blocking Property of Additional Persons Contributing to the Situation in Ukraine” (the Order) and 31 CFR 589.802, and following the Secretary of the Treasury's determination under section 1(a)(i) of the Order with respect to the energy sector of the Russian Federation economy, the Director of the Office of Foreign Assets Control has determined, in consultation with the Department of State, that the following activities by a U.S. person or within the United States are prohibited, except to the extent provided by law or unless licensed or otherwise authorized by the Office of Foreign Assets Control: the provision, exportation, or reexportation, directly or indirectly, of goods, services (except for financial services), or technology in support of exploration or production for deepwater, Arctic offshore, or shale projects that have the potential to produce oil in the Russian Federation, or in maritime area claimed by the Russian Federation and extending from its territory, and that involve any person determined to be subject to this Directive, its property, or its interests in property.

Except to the extent otherwise provided by law or unless licensed or otherwise authorized by the Office of Foreign Assets Control, the following are also prohibited: (1) Any transaction that evades or avoids, has the purpose of evading or avoiding, causes a violation of, or attempts to violate any of the prohibitions contained in this Directive; and (2) any conspiracy formed to violate any of the prohibitions in this Directive.

Entities determined on September 12, 2014, to be subject to Directive 4: On September 12, 2014, the Director of OFAC, in consultation with the Department of State, determined that the following person, who had previously been determined to operate in the energy sector of the Russian Federation economy, shall be subject to the prohibitions of Directive 4:

OPEN JOINT-STOCK COMPANY ROSNEFT OIL COMPANY (a.k.a. OAO ROSNEFT OIL COMPANY; a.k.a. OIL COMPANY ROSNEFT; a.k.a. OJSC ROSNEFT OIL COMPANY; a.k.a. ROSNEFT; a.k.a. ROSNEFT OIL COMPANY), 26/1 Sofiyskaya Embankment, Moscow 115035, Russia; Web site www.rosneft.com; alt. Web site www.rosneft.ru; Email Address postman@rosneft.ru; Registration ID 1027700043502 (Russia); Tax ID No. 7706107510 (Russia); Government Gazette Number 00044428 (Russia) [UKRAINE-EO13662]

On September 12, 2014, the Director of OFAC, in consultation with the Department of State, determined that the following persons (a) Operate in the energy sector of the Russian Federation economy and (b) shall be subject to the prohibitions of Directive 4:

1. OJSC GAZPROM NEFT (a.k.a. GAZPROM NEFT OAO; a.k.a. JSC GAZPROM NEFT; a.k.a. OPEN JOINT-STOCK COMPANY GAZPROM NEFT; f.k.a. SIBIRSKAYA NEFTYANAYA KOMPANIYA OAO), Let. A. Galernaya, 5, ul, St. Petersburg 190000, Russia; Ul. Pochtamtskaya, 3-5, St. Petersburg 190000, Russia; 3-5 Pochtamtskaya St., St. Petersburg 190000, Russia; 125 A. Profsoyuznaya Street, Moscow 117647, Russia; Web site http://www.gazprom-neft.com/; Email Address info@gazprom-neft.ru; alt. Email Address pr@gazprom-neft.ru; alt. Email Address shareholders@gazprom-neft.ru; alt. Email Address ir@gazprom-neft.ru; Registration ID 1025501701686; Tax ID No. 5504036333; Government Gazette Number 42045241 [UKRAINE-EO13662]

2. LUKOIL OAO (a.k.a. LUKOIL; a.k.a. LUKOIL OIL COMPANY; a.k.a. NEFTYANAYA KOMPANIYA LUKOIL OOO; a.k.a. NK LUKOIL OAO), 11 Sretenski boulevard, Moscow 101000, Russia; Web site www.lukoil.ru; Email Address info@lukoil.ru; Registration ID 1027700035769; Tax ID No. 7708004767; Government Gazette Number 00044434 [UKRAINE-EO13662]

3. OPEN JOINT STOCK COMPANY GAZPROM (a.k.a. GAZPROM OAO; a.k.a. OAO GAZPROM), 16 Nametkina St., Moscow, Russia GSP-7, 117997, Russia; 16 Nametkina ul., Moscow 117991, Russia; Web site www.gazprom.ru; Email Address gazprom@gazprom.ru; Registration ID 1027700070518 (Russia); Tax ID No. 7736050003 (Russia); Government Gazette Number 00040778 (Russia) [UKRAINE-EO13662]

4. SURGUTNEFTEGAS (a.k.a. OPEN JOINT STOCK COMPANY SURGUTNEFTEGAS; a.k.a. OTKRYTOE AKTSIONERNOE OBSHCHESTVO SURGUTNEFTEGAZ; a.k.a. SURGUTNEFTEGAS OAO; a.k.a. SURGUTNEFTEGAS OJSC; a.k.a. SURGUTNEFTEGAZ OAO), ul. Grigoriya Kukuyevitskogo, 1, bld. 1, Khanty-Mansiysky Autonomous Okrug—Yugra, the city of Surgut, Tyumenskaya Oblast 628415, Russia; korp. 1 1 Grigoriya Kukuevitskogo ul., Surgut, Tyumenskaya oblast 628404, Russia; Street Kukuevitskogo 1, Surgut, Tyumen Region 628415, Russia; Web site www.surgutneftegas.ru; Email Address secretary@surgutneftegas.ru [UKRAINE-EO13662]

General License No. 1 (Superseded on September 12, 2014)

Note to General License No. 1: On July 16, 2014, OFAC issued General License 1 authorizing certain transactions involving certain derivative products that were otherwise prohibited by Original Directives 1 or 2 under E.O. 13662. On September 12, 2014, General License No. 1 was replaced and superseded in its entirety by General License No. 1A, which is included later in this Federal Register Notice. The text of General License No. 1 is included here for historical reference purposes only.

General License No. 1: Authorizing Certain Transactions Related to Derivatives Under Directive 1 and Directive 2 of Executive Order 13662: (a) All transactions by U.S. persons, wherever they are located, and transactions within the United States involving derivative products whose value is linked to an underlying asset that constitutes (1) debt with a maturity of longer than 90 days or equity issued on or after July 16, 2014 by a person identified in Directive 1 pursuant to Executive Order 13662 or (2) debt with a maturity of longer than 90 days issued on or after July 16, 2014 by a person identified in Directive 2 pursuant to Executive Order 13662, are authorized.

(b) This general license does not authorize the holding, purchasing, or selling of underlying assets otherwise prohibited by Directive 1 and Directive 2 pursuant to Executive Order 13662 by U.S. persons, wherever they are located, or within the United States.

General License No. 1A

Note to General License No. 1: A prior version of this license, General License 1, which was issued in July 16, 2014, and which is superseded by this version, authorized certain transactions involving certain derivative products that were otherwise prohibited by Original Directives 1 or 2 under E.O. 13662. This amended version, General License 1A, which OFAC issued on September 12, 2014, updates this authorization to cover the amended versions of Directives 1 and 2 as well as Directive 3 and also reflects technical and other non-substantive changes.

General License No. 1A: Authorizing Certain Transactions Related to Derivatives Prohibited by Directives 1, 2, and 3 Under Executive Order 13662: (a) All transactions by U.S. persons, wherever located, and transactions within the United States involving derivative products whose value is linked to an underlying asset that constitutes (1) new debt with a maturity of longer than 30 days or new equity issued by a person subject to Directive 1 under Executive Order 13662, (2) new debt with a maturity of longer than 90 days issued by a person subject to Directive 2 under Executive Order 13662, or (3) new debt with a maturity of longer than 30 days issued by a person subject to Directive 3 under Executive Order 13662, are authorized.

(b) This general license does not authorize the holding, purchasing, or selling of underlying assets otherwise prohibited by Directives 1, 2, or 3 under Executive Order 13662 by U.S. persons, wherever they are located, or within the United States.

(c) Effective September 12, 2014, General License No. 1, dated July 16, 2014, is replaced and superseded in its entirety by this General License No. 1A.

General License No. 2

Note to General License No. 2: On September 12, 2014, OFAC issued General License No. 2 authorizing certain transactions otherwise prohibited by Directive 4 under E.O. 13662. Under the terms of General License No. 2, the authorization contained therein expired at 12:01 a.m. eastern daylight time on September 26, 2014. General License No. 2, therefore, is no longer effective, and its text is included here for historical reference purposes only.

General License No. 2: Authorizing Certain Activities Prohibited by Directive 4 Under Executive Order 13662 Necessary To Wind Down Operations: (a) Except as provided in paragraph (b) of this general license, all activities prohibited by Directive 4 under Executive Order 13662 of March 20, 2014, that are ordinarily incident and necessary to the wind down of operations, contracts, or other agreements involving persons determined to be subject to Directive 4 under Executive Order 13662 and that were in effect prior to September 12, 2014, are authorized through 12:01 a.m. eastern daylight time, September 26, 2014.

(b) This general license does not authorize any new provision, exportation, or reexportation of goods, services (except for financial services), or technology except as needed to cease operations involving projects covered by Directive 4 under Executive Order 13662. This general license does not authorize any transactions or dealings otherwise prohibited by any other Directive under Executive Order 13662 or any part of 31 CFR Chapter V.

(c) U.S. persons participating in transactions authorized by this general license are required, within 10 business days after the wind-down activities conclude, to file a detailed report, including the parties involved, the type and scope of activities conducted, and the dates of the activities, with the Office of Foreign Assets Control, Licensing Division, U.S. Department of the Treasury, 1500 Pennsylvania Avenue NW., Annex, Washington, DC 20220.

General License No. 3

On October 6, 2014, OFAC issued General License No. 3, which authorizes certain transactions otherwise prohibited by Directive 1 under E.O. 13662.

General License No. 3: Authorizing Transactions Involving Certain Entities Otherwise Prohibited by Directive 1 Under Executive Order 13662: (a) Except as provided in paragraph (b), all transactions prohibited by Directive 1 under Executive Order 13662 for a financial institution named in paragraph (c), or any entity in which such financial institution owns, directly or indirectly, a 50 percent or greater interest, are authorized.

(b) This general license does not authorize otherwise prohibited transactions with other persons subject to any Directive under Executive Order 13662, or any other transactions prohibited pursuant to any part of 31 CFR Chapter V.

(c) The financial institution(s) are: DenizBank A.Ş.

Dated: October 14, 2014.
John E. Smith,
Acting Director, Office of Foreign Assets Control.

[FR Doc. 2014-24988 Filed 10-20-14; 8:45 am]

BILLING CODE 4810-AL-P